DEPARTMENT OF COMMERCE

National Oceanic and Atmospheric Administration

[Docket No. 021028257-3178-02]

NOAA Office of Ocean Exploration Announcement of Funding Opportunity, Fiscal Year 2004

AGENCY: Office of Ocean Exploration, National Oceanic and Atmospheric Administration (NOAA), Commerce.

ACTION: Notice.

SUMMARY: NOAA's Office of Ocean Exploration (OE) is seeking pre-proposals and full proposals for grants, cooperative agreements, and other financial collaborations to implement OE's mission to expand our knowledge of the ocean's physical, chemical, biological and archaeological characteristics, processes, and resources. OE's mission objectives also include conveying the experience and knowledge gained in all of OE's missions though a structured program of public education and outreach. Many of OE's missions will be accomplished by projects, experiments, and expeditions to unknown, or poorly known, ocean and Great Lakes regions. Consistent with OE's intent to explore and discover, successful OE proposals will be relatively broad-based in terms of their objectives and they may be relatively high-risk. Prospective applicants are encouraged to visit the Ocean Explorer Web site: http://oceanexplorer.noaa.gov in order to familiarize themselves with past and present OE activities.

DATES: Pre-proposals are required and must be postmarked or received by September 3, 2003. Full proposals must be postmarked or received by October 28, 2003. In the event that these dates fall on a weekend or holiday, the effective date shall be the first working day after the date specified. Email and/or facsimile pre-proposals and/or proposals submissions will not be accepted.

ADDRESSES: Send pre-proposals and proposals to NOAA, Office of Ocean Exploration, ATTN: OE Science Program Coordinator, Bldg. SSMC3, Rm. 10221, 1315 East West Highway, Silver Spring, MD 20910. Email and/or facsimile pre-proposals and/or proposals submissions will not be accepted.

FOR FURTHER INFORMATION CONTACT: Margot Bohan, OE Science Program Coordinator, or Randi Neff, OE Program Grants Coordinator, NOAA Office of Ocean Exploration, 301-713-9444, facsimile 301-713-4252 or submit inquiries via email to the Frequently Asked Questions address: oar.oe.FAQ@noaa.gov. Email inquiries should include the Principal Investigator's name in the subject heading. A copy of this notice, as well as ancillary information, will be posted on the OE Web site http://www.explore.noaa.gov.

SUPPLEMENTARY INFORMATION:

I. Program Authority

Authority: 33 U.S.C. 883d.

Catalog of Federal Domestic Assistance Number: 11.460.

II. Program Description

A. Background

In June 2000, a panel of leading ocean explorers, scientists, and educators developed a national strategy for exploring the oceans, and presented its recommendations in a report entitled, Discovering Earth's Final Frontier: A U.S. Strategy for Ocean Exploration (http://oceanpanel.nos.noaa.gov). NOAA was selected as the lead Federal agency to guide a national program in ocean exploration and the Office of Ocean Exploration was established in 2001.

B. Program Mission

The mission of OE is to search, investigate, and document unknown and poorly known areas of the ocean and Great Lakes through interdisciplinary exploration, and to advance and disseminate knowledge of the ocean environment and its physical, chemical, biological, and historical resources.

III. Program Notice

A. Notice Objectives

The purpose of this announcement is to invite the submission of pre-proposals and full proposals for grants, cooperative agreements, and other financial collaborations whose objectives are to explore the ocean and map its resources, to gain new insights about its physical, chemical, biological, and archaeological characteristics, and its living and non-living resources.

B. Program Guidance

Themes. Persons submitting proposals may elect to address these preferred themes, developed in part from eight regional workshops of ocean scientists, explorers, and educators from public, private and commercial organizations. Applicants with non-OE-funded shiptime, projects, or other resources may wish to propose supplementing them by the addition of tasks or objectives that are consistent with (and are, therefore, eligible for funding by) the OE program mission. The themes are (in no order of priority):

1. Mapping ocean characteristics and bathymetry;

2. Marine life inventories: vertebrate, invertebrate, macro-organisms and micro-organisms;

3. Marine archaeology;

4. Characterization of benthic and pelagic habitats and ecosystems;

5. Locating and mapping corals (including deep corals);

6. New ocean resources;

7. Passive ocean acoustics;

8. Technology: innovative applications and leveraged development;

9. Outreach: communicating exploration efforts in new and innovative ways to broad audiences.

Workshop reports can be viewed online at http://explore.noaa.gov/workshops/welcome.html.

C. Program Priorities

The following are requirements for proposals successfully funded by OE.

Outreach & Education. All funded applicants and collaborators will be required to cooperate with OE in facilitating education and outreach activities. This may entail participation in the development of lesson plans, professional development for teachers, accommodation of a teacher/educator-at-sea, and at-sea media participation.

Data Management. In accepting full or partial OE sponsorship, each applicant is obligated to meet certain data management requirements including:

1. Applicants will provide metadata, e.g., number and type of data, and description of the data collected immediately upon completion of a project cruise. Other data or data products may also be required at the discretion of the OE Director.

2. Applicants will provide OE and the public access to acquired data sets collected as soon as practical and, in no case, later than one year following the date of collection, unless an extension is specifically granted by OE.

Proposals should include a description and justification of data funding needs and explain how data will be made accessible or available to the public.

3. NOAA's Ocean Explorer Web site (http://oceanexplorer.noaa.gov) is the principal vehicle for chronicling and documenting all missions supported by NOAA and OE. Applicants and mission participants will be required to provide material (i.e., throughout the mission) for this site such as cruise tracks, preliminary bathymetry, characterization of data collected, photographic or other images from the mission, and participants interviews, essays, or written materials. Funded applicants will be required to cooperate with the NOAA Ocean Explorer website team which may include accommodation of a NOAA web team member. (See Ancillary Information at: http://explore.noaa.gov).

D. Funding Considerations

OE will give priority to the following factors when making funding decisions: (1) Proposals that are interdisciplinary in approach; (2) Proposals which have substantial collaborations with multiple institutions, government, academia, or industry; (3) Proposals whose costs are leveraged with available OE funds; (4) The propriety of the level of investment for OE; (5) Applicants which express a willingness to facilitate and participate in outreach and education activities that OE supports; and (6) The heightened level of risk.

IV. Funding Availability

FY2004 funding for this program has not yet been appropriated. Not all available FY2004 program funds will be awarded through this announcement. Publication of this Notice does not obligate NOAA to award any specific project or to obligate all or any part of the available funds.

Proposals are encouraged for collaborations and explorations ranging from the tens of thousands of dollars to funds appropriate for up to two months of expeditionary exploration work. Multi-year proposals may be accepted, although the present principal focus of the OE program will be on one-year projects and expeditions. Out-year funding will be contingent upon factors including successful accomplishment of prior-year objectives as well as availability of program funding and other relevant resources.

V. Eligibility

Eligible applicants are institutions of higher education, other nonprofits, commercial organizations, international organizations, federal, state, local and Indian tribal governments. Proposals from non-Federal and Federal applicants will be competed against each other. Proposals selected for funding from non-Federal applicants will be funded through a project grant or cooperative agreement under the terms of this notice. Proposals selected for funding from NOAA scientists shall be effected by an intra-agency fund transfer. Proposals selected for funding from a non-NOAA Federal agency will be funded through an inter-agency transfer. Please note: Before non-NOAA Federal applicants may be funded, they must demonstrate that they have legal authority to receive funds from another Federal agency in excess of their appropriation. Because this announcement is not proposing to procure goods or services from applicants, the Economy Act (31 U.S.C. 1535) is not an appropriate legal basis.

There is no limit to the number of pre-proposals and proposals an applicant may submit. Applicants that fail to meet eligibility requirements and guidelines for submission will not be funded (see section V. and VI.)

Cost Sharing

Cost sharing or matching is not required by this program (However, see section II.D. Funding Considerations (3)).

VI. Guidelines for Submission

There will be a two-stage competition with pre-proposals utilized for an initial selection process. Full proposals will be solicited from investigators who submit successful pre-proposals. An approved pre-proposal is a prerequisite for submission of a full proposal. Pre-proposals will be judged in terms of their consistency with OE's program mission and themes. Available program funds will also be taken into consideration (See DATES for submission deadlines and ADDRESSES for hard copy submission address).

A. Preliminary Proposals

A pre-proposal should include a summary of the proposed research, project priorities, a statement of objectives, and a description of how the proposed project relates with OE's mission. The area of proposed operations must be clearly defined (e.g., including latitude, longitude, and depth). Required platforms or other critical assets should be identified. The pre-proposal should make clear any time or other operational constraints, especially with regard to field operations. Any auxiliary funding sources for the proposed project should be identified. Pre-proposals must identify all collaborators and include a summary budget. Pre-proposals must not exceed two typewritten single-sided pages and must use 12-point font. Additionally, pre-proposals must include a completed pre-proposal cover sheet (available electronically at http://explore.noaa.gov) (see FOR FURTHER INFORMATION CONTACT to request a hard copy version). The applicant's last name must be typed in the bottom right-hand corner of each page. Three hard copies of the complete pre-proposal must be postmarked or received by September 3, 2003. See ADDRESSES for hard copy submission address.

B. Proposals

All proposals must include the following, packaged in the order listed here:

(a) completed proposal cover sheet (available electronically at http://explore.noaa.gov);

(b) maximum half-page executive summary;

(c) maximum 15-page description of the entire project (including work plan, schedule, and collaborations);

(d) summary of relevant current funding support;

(e) brief resumes for each investigator, including recent relevant publication references,

(f) SF-424, Application for Federal Assistance (Rev July 1997) (available electronically at http://explore.noaa.gov);

(g) detailed budget (including all ship and equipment costs) and

(h) budget narrative (including justification for non-standard items).

All pages should be single-sided, single-or double-spaced, typewritten margin in a minimum 12-point font on an 8½″ x 11″ page. The bottom right-hand corner of every page, excluding cover sheet, must be numbered and labeled with the applicant's last name. Tables and visual materials, including charts, graphs, maps, photographs, and other pictorial presentations are to be included in the 15-page limit. The cover sheet, executive summary, current support, resumes, references/literature cited, SF-424 Application for Federal Assistance, budgets, and budget narrative sections need not be counted against the 15-page limit. All information needed for review of the proposal should be included in the main text, not submitted as appendices.

The proposal must clearly explain each participant's efforts and their respective requests for OE funds, as well as any cost-sharing. Separate budgets within the single proposal must be provided if more than one funding action is anticipated (e.g., if funds are to be allocated to more than one institution or agency). Three hardcopies of the proposal are required. For the proposal only, in addition to the hard copies it is highly recommended that applicants submit a digital version (cdrom, floppy disk, or zip disk) of a complete proposal, preferably in Adobe .pdf format in order to facilitate proposal review. All proposals, hard copies and digital versions, must be postmarked or received by October 28, 2003. If applicants wish reviewers to receive included color graphics, glossy photographs, or other unusual materials, applicants are encouraged to submit a total of 10 complete hard copies. For further information, see Announcement of Opportunity: Application Kit at http://www.explore.noaa.gov/ or see ADDRESSES and/or FOR FURTHER INFORMATION CONTACT.

Intergovernmental Review. Applications under this program are subject to Executive Order 12372, “Intergovernmental Review of Federal Programs.” Applicants must contact their State's Single Point of Contact (SPOC) to find out about and comply with the State's process under EO 12372. The names and addresses of the SPOCs are listed in the Office of Management and Budget's Web site: http://www/whitehouse.gov/omb/grants/spoc.html.

C. Forms

The following government forms shall be required only from those applicants subsequently recommended for award. Forms must be submitted in triplicate, each with original signatures. These forms include:

SF-424A Budget Information—Nonconstruction Programs (Rev July 1997)

SF-424B Assurances—Nonconstruction Programs

SF-LLL Disclosure of Lobbying Activities

Form CD-346 Application for Funding Assistance,

Form CD-511 Certification Regarding Debarment, Suspension and Other Responsibility matters: Drug-Free Workplace Requirements and Lobbying,

Form CD-512 Certifications Regarding Debarment, Suspension, Ineligibility and Voluntary Exclusion-Lower Tier Covered Transactions and Lobbying and shall be used in applying for financial assistance, and, if applicable, please submit your most current negotiated indirect cost rate agreement.

All necessary forms may be obtained via the OE Web site (see: OE Application Kit at http://explore.noaa.gov, for hard copies, see ADDRESSES and/or FOR FURTHER INFORMATION CONTACT).

Proposals received after the deadline, or proposals that deviate from the format described in this Notice will not be accepted.

VII. Pre-Proposal and Proposal Review and Selection Process

A. Pre-Proposal Evaluation

The OE Director will make the decision to request or not request full proposal submissions based on the following factors: (1) Proposal consistency with the format of this announcement (2) Consistency with the OE program and mission (3) Applicability of the project objectives to OE themes and project funding considerations (4) Extent to which the proposal focuses on a geographical area that is unknown or poorly known (5) Reasonableness of project costs relative to available program funds (6) Logistical feasibility (e.g., ship availability), given OE resource availability. The final decision to submit a full proposal is up to the applicant.

B. Proposal Evaluation

Proposals will be evaluated and rated individually by (a) independent peer panel review or by (b) correspondence review. The evaluators will be composed of scientists, engineers, social scientists, economists, outreach specialists, and resource managers as appropriate to the scope of proposals received in response to this announcement. Some proposals, including those focused on activities such as technology development, organizing and implementing workshops, and outreach activities, will be reviewed by correspondence (i.e., at least three mail peer-reviews) rather than by independent peer panel review. The following criteria will be used to review proposals using the corresponding weight value:

Scientific and Technical merit:

This criterion assesses whether the approach is technically sound and/or innovative, if the methods are appropriate, and whether there are clear project goals and objectives. For the OE review process this includes: (a) The scientific and/or technical value of the work proposed, its probability of success, and the applicant's scientific and/or technical capabilities to undertake the proposed work; (b) the anticipated scientific and/or technical impact of the results of the project on the advancement of knowledge within the field(s) of the endeavor. (40%)

Importance/Relevance and Applicability of Proposal to the Program Goals:

This criterion ascertains whether there is intrinsic value in the proposed work and/or relevance to NOAA, international, federal, regional, state, or local activities. For the OE review process this includes the degree to which the proposal addresses and supports OE's mission and this notice's objectives. (20%)

Project Costs:

This criterion evaluates the budget to determine if it is realistic and commensurate with the project needs and time-frame. For the OE review process this includes the reasonableness of project costs relative to the scope of work proposed. (20%)

Overall qualifications of applicants:

This criterion ascertains whether the applicant possesses the necessary education, experience, training, facilities, and administrative resources to accomplish the project. For the OE review process this includes the qualifications of the applicant to accomplish the work proposed. (20%)

All proposals will be rated by the independent peer reviewers or correspondence review panel according to an adjectival scale (that will later be converted into a score) ranging in order of decreasing merit, as follows:

Excellent: Comprehensive, thorough and of exceptional merit, one or more major strengths, no major weaknesses, and any minor weaknesses easily correctable.

Very Good: Competent, one or more major strengths, strengths outweigh weaknesses, and major weaknesses correctable.

Good: Reasonable, may be strengths and/or weaknesses, weaknesses do not significantly detract from the proposal's viability, any major weaknesses are correctable.

Fair: One or more major weaknesses, weaknesses outweigh strengths, major weaknesses may possibly be corrected or minimized.

Poor: One or more major weaknesses, which will be difficult to correct or may not be correctable.

C. Selection Process

The Selecting Official (the OE Director) in consultation with the OE Chief Scientist will select proposals after considering the peer reviews and the selection factors listed below. In making the final selections, the Selecting Official will endeavor to award in rank order unless the proposal is justifiably selected out of rank order based upon one or more of the selection factors below. The OE Director will have the final authority and responsibility for decisions regarding proposal selection.

The selection factors include the following: (1) The availability of program funding (i.e., feasibility for OE to meet applicants requests given projects costs and logistics); (2) the extent to which the proposal contributes to a balanced national program in terms of distribution of funds by geography/institution/partners/study areas/ and project; (3) the avoidance of duplication with other projects funded or considered for funding by NOAA or other Federal Agencies; (4) the responsiveness to overall program priorities (section III.C.) and policy factors (see section III.D., Funding Considerations); (5) applicant's prior award performance; and (6) partnerships with participation of targeted groups.

High proposal peer review ratings may not result in funding for a given proposal. Investigators may be asked to modify objectives, work plans, or budgets prior to approval of the award. Subsequent administrative processing will be in accordance with current NOAA financial administrative procedures.

The National Science Foundation, the federal agencies of the National Ocean Partnership Program, and other NOAA programs have mission objectives which involve ocean research and technology development. Examples of NOAA agencies and programs are: the National Undersea Research Program, the National Sea Grant College Program, the Arctic Research Office, NOAA Fisheries, and the National Ocean Service. OE anticipates and encourages investigators to seek complementary funding for their proposed projects through linked proposals to these agencies. OE will work with program managers at other agencies to facilitate such projects. OE places a high priority on proposed co-funded projects that receive high ratings through each agency's respective evaluation process. For additional details about these other programs, see: http://oceanexplorer.noaa.gov.

D. Notification of Award

Successful applicants will receive an email or letter notifying the applicant that his/her proposal has been recommended for funding. It is the applicant's responsibility to notify all collaborators of the award.

E. Disposition of Unsuccessful Applications

Those proposals not ultimately selected for OE funding will be destroyed.

VIII. Federal Policies and Procedures Applicable to OE

A. Environmental Impact

Applicants whose proposed projects may have an environmental impact should furnish sufficient information to assist proposal reviewers in assessing the potential environmental consequences of supporting the project.

B. Permits and Authorizations

Applicants are responsible for obtaining relevant permits and authorizations required under the laws of the jurisdiction in which the work is to be performed and under U.S. law.

For further information about permits, authorizations or viewing marine mammals and other protected species in the wild please visit the following NOAA Fisheries Web site: http://www.nmfs.noaa.gov/prot_res/overview/permits.html, http://www.nmfs.noaa.gov/prot_res/MMWatch/MMViewing.html.

IX. Other Requirements

The Department of Commerce Pre-award Notification Requirements for Grants and Cooperative Agreements contained in the Federal Register Notice of October 1, 2001 [66 FR 49917], as amended by the Federal Register Notice published on October 30, 2002 [67 FR 66109], is applicable to this solicitation.

Classification

Prior notice and an opportunity for public comments are not required by the Administrative Procedure Act (5 U.S.C. 553(a)(2)) or any other law for this notice concerning grants, benefits, and contracts. Because notice and comment are not required, the analytical requirements of the Regulatory Flexibility Act (5 U.S.C. 601 et seq.) are inapplicable. Therefore, a regulatory flexibility analysis is not required and has not been prepared. This action has been determined to be not significant for purposes of Executive Order 12866.

This notice contains collection-of-information requirements, which are subject to the Paperwork Reduction Act. The use of Standard Forms 424, 424A, 424B, SF-LLL, and CD-346 have been approved by OMB under the respective control numbers 0348-0043,0348-0044, 0348-0040, 0348-0046, and 0605-0001. Notwithstanding any other provision of law, no person is required to respond to, nor shall any person be subject to a penalty for failure to comply with, a collection of information subject to the Paperwork Reduction Act, unless that collection of information displays a currently valid OMB control number.

Dated: July 22, 2003.
Julie Scanlon,
Director, Management and Organizational Development, Office of Oceanic and Atmospheric Research, National Oceanic and Atmospheric Administration.

[FR Doc. 03-18975 Filed 7-24-03; 8:45 am]

BILLING CODE 3510-KD-P